DEPARTMENT OF ENERGY

Western Area Power Administration

2025 Resource Pool—Sierra Nevada Customer Service Region

AGENCY: Western Area Power Administration, DOE.

ACTION: Proposed power allocations from Central Valley and Washoe Projects.

SUMMARY: Western Area Power Administration announces proposed power allocations from the 2025 Resource Pool for the Central Valley and Washoe projects. Under the final 2025 Power Marketing Plan, 2 percent of the existing marketable resource, otherwise known as Base Resource, of the Central Valley and Washoe Projects will be allocated to new and existing eligible preference customers beginning January 1, 2025 and ending December 31, 2054. This notice provides a list of the allottees and seeks comments from the public on the proposed resource pool allocations.

DATES: Send written comments to the Sierra Nevada Regional Office (SNR) at the address below by 4 p.m., Pacific Time, on March 14, 2019. Comments can also be submitted through email or certified mail. Comments sent via U.S. Postal Service first-class mail will be accepted if:

1. Postmarked at least 3 days before March 14, 2019, and

2. Received no later than March 18, 2019.

Comments received after the close of the comment period will not be considered. After considering comments, WAPA will publish the Final 2025 Resource Pool Allocations in the Federal Register.

ADDRESSES: Send written comments to: Ms. Sandee Peebles, Public Utilities Specialist, Sierra Nevada Customer Service Region, Western Area Power Administration, 114 Parkshore Drive, Folsom, CA 95630. Submit comments by email to 2025RPComments@wapa.gov.

FOR FURTHER INFORMATION CONTACT: Ms. Sandee Peebles, Public Utilities Specialist, Sierra Nevada Customer Service Region, Western Area Power Administration, 114 Parkshore Drive, Folsom, CA 95630, (916) 353-4454, or by email to peebles@wapa.gov.

SUPPLEMENTARY INFORMATION:

Background

WAPA published the final 2025 Power Marketing Plan (Marketing Plan) on August 15, 2017, (82 FR 38675) to define how WAPA will market hydropower from the Central Valley and Washoe projects beginning January 1, 2025, and ending December 31, 2054. The current marketing plan and contracts expire on December 31, 2024. As part of the final Marketing Plan, WAPA will withdraw 2 percent of the existing marketable resource from existing customers, also known as Base Resource, to create a resource pool. The 2-percent resource pool will be offered to eligible preference entities that do not currently have an allocation and existing eligible preference customers.

The Call for 2025 Resource Pool Applications was published in the Federal Register on March 8, 2018 (83 FR 9851), and applications were due by May 7, 2018. On July 13, 2018, WAPA extended the deadline to file applications to August 13, 2018 (83 FR 32664).

Proposed 2025 Resource Pool Allocations

WAPA received applications for the 2025 Resource Pool from 29 existing customers and 8 applications from new eligible preference entities. WAPA used a two-step process to determine proposed power allocations from the 2025 Resource Pool. First, WAPA determined which applicants met the eligibility criteria. Next, WAPA used its discretion to determine which eligible entities would receive a proposed allocation and the amount of the proposed allocation.

The proposed 2025 Resource Pool allocations are preliminary and may change based on comments received. After reviewing the comments, WAPA will publish a notice of Final 2025 Resource Pool Allocations in the Federal Register and respond to comments.

The proposed 2025 Resource Pool allottees, percentage of the Base Resource, and the estimated megawatt-hours (MWh) of each allocation are listed below. The estimated MWh for each allocation assumes an estimated average annual Base Resource of 3,342,000 MWh and is rounded to the nearest MWh. The proposed allocations are as follows:

Allottee | Base resource allocation (%) | Estimated MWh
Army Air Force Exchange | 0.03960 | 1,323
California State University, Sacramento | 0.01106 | 370
Cawelo Water District | 0.00373 | 125
Eastside Power Authority | 0.00362 | 121
Fallon, City of | 0.01988 | 664
Hoopa Valley Tribe | 0.00158 | 53
Kirkwood Meadows Public Utilities District | 0.03793 | 1,268
Lower Tule Irrigation District | 0.00197 | 66
Merced Irrigation District | 0.10079 | 3,368
Modesto Irrigation District | 0.30470 | 10,183
Monterey Bay Community Power | 0.35347 | 11,813
Orange Cove Irrigation District | 0.02382 | 796
Placer County Water Agency | 0.00394 | 132
Reclamation District 108 | 0.00072 | 24
Regents of the University of California | 0.14688 | 4,909
Roseville, City of | 0.00979 | 327
Sacramento Municipal Utility District | 0.01735 | 580
Santa Clara Water District | 0.00365 | 122
Silicon Valley Clean Energy Authority | 0.32467 | 10,850
Sonoma County Water Agency | 0.00360 | 120
Stockton, Port of | 0.01155 | 386
Truckee Donner Public Utility District | 0.03716 | 1,242
Turlock Irrigation District | 0.32956 | 11,014
University of California, Davis | 0.01949 | 651
Water Resources, California Department of | 0.14398 | 4,812
Woodland Davis Clean Water Agency | 0.04371 | 1,461
Zone 7, Alameda County Flood Control & Water Conservation District | 0.00180 | 60
| 2.00000 | 66,840

Additional Base Resource

Under the final Marketing Plan, there may be future opportunities for entities to receive a Base Resource allocation from WAPA, for instance:

1. If an allocation is withdrawn because an allottee is unable to execute a contract or secure transmission arrangements for the delivery of power by the prescribed dates.

2. A customer surrenders an allocation.

3. An allottee's or existing customer's Base Resource allocation is greater than its need.

If additional Base Resource is available for reallocation, WAPA, at its discretion and sole determination, reserves the right to reallocate the additional Base Resource through bilateral negotiations. WAPA also reserves the right to offer any additional Base Resource to (1) eligible entities who submitted applications during the 2025 Call for Applications, (2) existing customers, (3) new preference entities, or (4) any entity on a short-term basis.

Contracting Process

SNR will offer existing customers 98 percent of their current Base Resource allocations. The 2025 Resource Pool consists of the remaining 2 percent of the power resources. For existing customers who received a resource pool allocation, the additional allocation will be included with their existing Base Resource allocation.

WAPA solely determines the terms, conditions, rates, or charges of its power contracts and will work with allottees to develop customized products, if requested, to meet their needs when the final 2025 Resource Pool allocations have been published. Each allottee is responsible for obtaining transmission arrangements for delivery of power to its load. Upon request, WAPA may assist an allottee in obtaining transmission arrangements for delivery of power.

Allottees will be required to execute a contract within six months of the contract offer. Electric service contracts will be effective upon WAPA's signature, and service will begin on January 1, 2025.

Authorities

The Marketing Plan, published in the Federal Register (82 FR 38675) on August 15, 2017, was established under the Department of Energy Organization Act (42 U.S.C. 7101, et seq.); the Reclamation Act of June 17, 1902 (ch. 1093, 32 Stat. 388), as amended and supplemented by subsequent enactments, particularly section 9(c) of the Reclamation Project Act of 1939 (43 U.S.C. 485(c)); and other acts specifically applicable to the projects involved. Allocating power from the resource pool falls within the Marketing Plan and is covered by this authority.

Regulatory Procedure Requirements

Environmental Compliance

WAPA completed a Categorical Exclusion to comply with the National Environmental Policy Act, as amended (NEPA) (42 U.S.C. 4321, et seq.), Council on Environmental Quality NEPA implementing regulations (40 CFR parts 1500-08), and Department of Energy NEPA implementing regulations (10 CFR part 1021).

Determination Under Executive Order 12866

WAPA has an exemption from centralized regulatory review under Executive Order 12866; accordingly, no clearance of this Federal Register notice by the Office of Management and Budget is required.

Dated: January 29, 2019.
Mark A. Gabriel,
Administrator.

[FR Doc. 2019-02016 Filed 2-11-19; 8:45 am]

BILLING CODE 6450-01-P